DEPARTMENT OF TRANSPORTATION

Federal Railroad Administration

[Docket No. FRA-2000-7257, Notice No. 87]

Railroad Safety Advisory Committee; Re-Establishment

AGENCY: Federal Railroad Administration (FRA), U.S. Department of Transportation (DOT).

ACTION: Notice of re-establishment of Railroad Safety Advisory Committee (RSAC).

SUMMARY: The Federal Railroad Administration (FRA) announces the re-establishment of the Railroad Safety Advisory Committee (RSAC) via a new charter. RSAC is a Federal Advisory Committee established by the U.S. Secretary of Transportation in accordance with the Federal Advisory Committee Act to provide information, advice, and recommendations to the Administrator of FRA on matters relating to railroad safety. This charter will be effective for 2 years from the date it is filed with Congress.

FOR FURTHER INFORMATION CONTACT: Kenton Kilgore, RSAC Designated Federal Officer/RSAC Coordinator, FRA Office of Railroad Safety, (202) 493-6286; or Larry Woolverton, Executive Officer, FRA Office of Railroad Safety, (202) 493-6212.

SUPPLEMENTARY INFORMATION: This notice is provided in accordance with the Federal Advisory Committee Act (Pub. L. 92-463, 5 U.S.C. App. 2). The RSAC is composed of 40 representatives from 29 member organizations, representing various rail industry perspectives. The diversity of the committee ensures the requisite range of views and expertise necessary to discharge its responsibilities. Please see the RSAC website for additional information at https://rsac.fra.dot.gov/.

Issued in Washington, DC.
Ronald Louis Batory,
Administrator.

[FR Doc. 2018-20312 Filed 9-18-18; 8:45 am]

BILLING CODE P